DEPARTMENT OF THE TREASURY

Submission for OMB Review; Comment Request

November 25, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 2, 2003 to be assured of consideration.

Bureau of Alcohol, Tobacco and Firearms (BATF)

OMB Number: 1512-0467.

Form Number: ATF F 5000.24.

Type of Review: Revision.

Title: Excise Tax Return—Alcohol and Tobacco.

Description: Businesses report their Federal excise tax liability on distilled spirits, wine, beer, tobacco products, cigarette papers and tubes on ATF F 5000.24. ATF needs this form to identify the taxpayers and to determine the amount and type of taxes due and paid.

Respondents: Business or other for-profit.

Estimated Number of Respondents/Recordkeepers: 2,800.

Estimated Burden Hours Per Respondent/Recordkeeper: 15 minutes.

Frequency of Response: Other (semi-monthly).

Estimated Total Reporting/Recordkeeping Burden: 35,280 hours.

OMB Number: 1512-0497.

Form Number: ATF F 5000.25.

Type of Review: Revision.

Title: Excise Tax Return—Alcohol and Tobacco (Puerto Rico).

Description: Businesses in Puerto Rico report their Federal excise tax liability on distilled spirits, wine, beer, tobacco products, cigarette papers and tubes on ATF F 5000.25. ATF needs this form to identify the taxpayer and to determine the amount and type of taxes due and paid.

Respondents: Business or other for-profit.

Estimated Number of Respondents/Recordkeeping: 30.

Estimated Burden Hours Per Respondent/Recordkeeper: 15 minutes.

Frequency of Response: Other (semi-monthly).

Estimated Total Reporting/Recordkeeping Burden: 130 hours.

OMB Number: 1512-0551.

Form Number: ATF F 5300.42.

Type of Review: Extension.

Title: Certification of Secure Gun Storage or Safety Devices.

Description: The requested information will be used to ensure that applicants for a Federal firearms license are in compliance with the requirements pertaining to the availability of secure gun storage or safety devices.

Respondents: Business or other for-profit

Estimated Number of Respondents/Recordkeepers: 31,000.

Estimated Burden Hours Per Respondent/Recordkeeper: 1 minute.

Frequency of Response: Other (non-required).

Estimated Total Reporting/Recordkeeping Burden: 600 hours.

OMB Number: 1512-0552.

Form Number: None.

Type of Review: Extension.

Title: Open Letter to Federal Firearms Licenses.

Description: The requested information will be used to determine why Federal firearms licensees have failed to enroll with the FBI. This is necessary because non-enrolled licensees that transfer a firearm to a nonlicensed individual are in violation of the GCA, as amended.

Respondents: Business or other for-profit, Federal Government.

Estimated Number of Respondents: 18,000.

Estimated Burden Hours Per Respondent: 1 minute.

Frequency of Response: On occasion.

Estimated Total Reporting Burden: 1,130 hours.

Clearance Officer: Jacqueline White, (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Lois K. Holland,
Departmental Reports, Management Officer.

[FR Doc. 02-30577 Filed 12-2-02; 8:45 am]

BILLING CODE 4810-31-P